OFFICE OF THE UNITED STATES TRADE REPRESENTATIVE

Notice of Meeting of the Industry Sector Advisory Committee on Services (ISAC-13)

AGENCY: Office of the United States Trade Representative.

ACTION: Notice of Meeting.

SUMMARY: The Industry Sector Advisory Committee on Services (ISAC-13) will hold a meeting on May 22, 2001, from 9 a.m. to 12 noon. The meeting will be opened to the public from 9 a.m. to 9:45 a.m. and closed to the public from 9:45 a.m. to 12 noon.

DATES: The meeting is scheduled for May 22, 2001, unless otherwise notified.

ADDRESSES: The meeting will be held at the Department of Commerce, 14th Street between Pennsylvania and Constitution Avenues, NW., Washington, DC, Conference Room 6057.

FOR FURTHER INFORMATION CONTACT: Karen Holderman (202) 482-0345, Department of Commerce, 14th Street and Constitution Avenue, NW., Washington, DC 20230 (principal contact), or myself on (202) 395-6120.

SUPPLEMENTARY INFORMATION: During the meeting the following topics will be addressed:

• Requirements for Environmental Review of the WTO General Agreement on Trade in Services (GATS) Negotiations.

• Preparations for the WTO Ministerial Meetings in Qatar, November 2001.

• Proposed Changes in the Bureau of Economic Analysis Survey on International Services Transactions.

• Capacity Building to Improve Services Trade Statistics.

Heather K. Wingate,
Assistant United States Trade Representative for Intergovernmental Affairs and Public Liaison.

[FR Doc. 01-12143 Filed 5-14-01; 8:45 am]

BILLING CODE 3190-01-M